DEPARTMENT OF THE INTERIOR

National Park Service

[2253-665]

Notice of Inventory Completion: U.S. Department of Agriculture, Forest Service, Gila National Forest, Silver City, NM, and Field Museum of Natural History, Chicago, IL

AGENCY: National Park Service, Interior.

ACTION: Notice.

SUMMARY: The U.S. Department of Agriculture, Forest Service, Gila National Forest and the Field Museum of Natural History have completed an inventory of human remains, in consultation with the appropriate Indian tribes, and have determined that there is a cultural affiliation between the human remains and present-day Indian tribes. Representatives of any Indian tribe that believes itself to be culturally affiliated with the human remains may contact the U.S. Department of Agriculture, Forest Service, Gila National Forest. Repatriation of the human remains to the Indian tribes stated below may occur if no additional claimants come forward.

DATES: Representatives of any Indian tribe that believes it has a cultural affiliation with the human remains should contact the U.S. Department of Agriculture, Forest Service, Gila National Forest at the address below by March 28, 2012.

ADDRESSES: Dr. Frank E. Wozniak, NAGPRA Coordinator, Southwestern Region, U.S. Department of Agriculture, Forest Service, 333 Broadway Blvd. SE., Albuquerque, NM 87102, telephone (505) 842-3238.

SUPPLEMENTARY INFORMATION: Notice is here given in accordance with the Native American Graves Protection and Repatriation Act (NAGPRA), 25 U.S.C. 3003, of the completion of an inventory of human remains in the control of the U.S. Department of Agriculture, Forest Service, Gila National Forest, Silver City, NM, and in the possession of the Field Museum of Natural History, Chicago, IL. The human remains were removed from the Gila National Forest, Catron County, NM.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by the professional staff at the U.S. Department of Agriculture, Forest Service, Gila National Forest, and the Field Museum of Natural History in consultation with representatives of the Hopi Tribe of Arizona; Pueblo of Acoma, New Mexico; and the Zuni Tribe of the Zuni Reservation, New Mexico (hereinafter referred to as “The Tribes”).

History and Description of the Remains

Between 1935 and 1955, human remains and associated funerary objects were recovered from several sites in the Gila National Forest, Catron County, NM, by Dr. Paul Martin of the Field Museum of Natural History, Chicago, IL. There have been several Notices of Inventory Completion (NICs) published in the Federal Register for human remains and associated funerary objects from these sites (63 FR 39293-39294, July 22, 1998; 70 FR 44686-44687, August 3, 2005; 70 FR 56483-56484, September 27, 2005; 71 FR 38413-38415, July 6, 2006; and 76 FR 43718-43719, July 21, 2011). Following these publications, the Gila National Forest and the Field Museum of Natural History staffs identified three additional sites on lands administered by the Gila National Forest. These sites are closely related to all of the other sites published in previous NICs and contain fragmentary human remains identified as Native American.

Between 1935 and 1955, Paul Martin excavated the Cordova Cave site. Human remains representing six individuals were identified from the site. No known individuals were identified. No associated funerary objects are present.

Between 1935 and 1955, Paul Martin excavated the Hinkle Park Cliff Dwellings site. Human remains representing one individual were identified from the site. No known individual was identified. No associated funerary objects are present.

Between 1935 and 1955, Paul Martin excavated the Pine Lawn Valley Pueblo site. Human remains representing one individual were identified from the site. No known individual was identified. No associated funerary objects are present.

Based on material culture, architecture and site organization, the sites have been identified as Upland Mogollon sites. Continuities of ethnographic materials, technology and architecture indicate affiliation of Upland Mogollon sites with historic and present-day Puebloan cultures. Oral traditions presented by representatives of The Tribes support cultural affiliation with these Upland Mogollon sites in this portion of southwestern New Mexico.

Determinations Made by the U.S. Department of Agriculture, Forest Service, Gila National Forest

Officials of the U.S. Department of Agriculture, Forest Service, Gila National Forest have determined that:

• Pursuant to 25 U.S.C. 3001(9), the human remains described above represent the physical remains of eight individuals of Native American ancestry.

• Pursuant to 25 U.S.C. 3001(2), there is a relationship of shared group identity that can be reasonably traced between the human remains and The Tribes.

Additional Requestors and Disposition

Representatives of any other Indian tribe that believes itself to be culturally affiliated with the human remains should contact Dr. Frank E. Wozniak, NAGPRA Coordinator, Southwestern Region, U.S. Department of Agriculture, Forest Service, 333 Broadway Blvd. SE, Albuquerque, NM 87102, telephone (505) 842-3238, before March 28, 2012. Repatriation of the human remains to The Tribes may proceed after that date if no additional claimants come forward.

The U.S. Department of Agriculture, Forest Service, Gila National Forest is responsible for notifying The Tribes that this notice has been published.

Dated: February 22, 2012.
Sherry Hutt,
Manager, National NAGPRA Program.

[FR Doc. 2012-4533 Filed 2-24-12; 8:45 am]

BILLING CODE 4312-50-P